DEPARTMENT OF HEALTH AND HUMAN SERVICES

Centers for Disease Control and Prevention

[Program Announcement AA082]

National Foundation for the Centers for Disease Control and Prevention, Inc.; Notice of Intent To Fund Single Eligibility Award

A. Purpose

The purpose of this grant is to provide funding for the administrative expenses of the NFCDC. An illustrative, non-exhaustive list of administrative expenses includes administrative personnel salaries, benefits, and expenses; administrative travel; administrative equipment; office supplies; utilities, such as water, electricity, and gas; printing; postage; communications; and rent.

Authority: Section 399G of the Public Health Service Act, [42 U.S.C. 280e-11], as amended; Section 201 of Public Law 102-531 (1992)

The Catalog of Federal Domestic Assistance number for this program is 93.283.

B. Eligible Applicant

Assistance will be provided only to National Foundation for the Centers for Disease Control and Prevention, Inc. (NFCDC). No other applications are solicited.

C. Funding

Approximately $500,000 is available in FY 2005 to fund this award. It is expected that the award will begin on or before August 15, 2005, and will be made for a 12-month budget period within a project period of up to five years. Funding estimates may change.

D. Where To Obtain Additional Information

For general comments or questions about this announcement, contact: Technical Information Management Section, CDC Procurement and Grants Office, 2920 Brandywine Road, Atlanta, GA 30341, telephone: 770-488-2700.

For technical questions about this program, contact: Michelle Wilson, MSW, Project Officer, Centers for Disease Control and Prevention (CDC), 1600 Clifton Road NE., Mailstop D-28, Atlanta, GA 30333, telephone: 404-639-5947, e-mail: MWilson2@cdc.gov.

Dated: May 31, 2005.
William P. Nichols,
Director, Procurement and Grants Office, Centers for Disease Control and Prevention.

[FR Doc. 05-11155 Filed 6-3-05; 8:45 am]

BILLING CODE 4163-18-P